COMMISSION ON CIVIL RIGHTS

Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Rights will hold a third briefing on the impact of algorithms on civil rights in Connecticut on Monday, December 19, 2022, at 2 p.m. (ET). The briefing will convene virtually. The purpose of the briefing is to hear from an expert on the topic of algorithms and civil rights in Connecticut. The committee will also hold a planning meeting after the briefing.

DATE AND TIME: Monday, December 19, 2022; 2 p.m. (ET).

Zoom Link (audio/video): https://tinyurl.com/2p886878; passcode, if needed: USCCR-CT.

If Joining by Phone Only: 1-551-285-1373; Meeting ID: 161 410 6352#.

FOR FURTHER INFORMATION CONTACT: Barbara Delaviez at ero@usccr.gov or by phone at 202-539-8246.

SUPPLEMENTARY INFORMATION: If other persons who plan to attend the meeting require other accommodations, please contact Evelyn Bohor at ebohor@usccr.gov at the Eastern Regional Office at least ten (10) working days before the scheduled date of the meeting. During the meeting, closed captioning will be available to you as needed.

Members of the public are entitled to make comments during the open comment period towards the end of the meeting. Members of the public may also submit written comments; the comments must be received in the Regional Programs Unit within 30 days following the meeting. Written comments may be emailed to Barbara de La Viez at ero@usccr.gov. Persons who desire additional information may contact the Regional Programs Unit at (202) 539-8246. Records and documents discussed during the meeting will be available for public viewing as they become available at www.facadatabase.gov. Persons interested in the work of this advisory committee are advised to go to the Commission's website, www.usccr.gov, or to contact the Regional Programs Unit at the above phone number or email address.

Agenda

Monday, December 19, 2022; 2 p.m. (ET)

I. Welcome and Roll Call

II. Briefing Panel IV: The Impact of Algorithms on Civil Rights in Connecticut

III. Question and Answer Between Panelist and Committee Members

IV. Public Comment

V. Briefing Planning

VI. Adjournment

Dated: November 17, 2022.
David Mussatt,
Supervisory Chief, Regional Programs Unit.

[FR Doc. 2022-25422 Filed 11-21-22; 8:45 am]

BILLING CODE 6335-01-P